DEPARTMENT OF JUSTICE

Antitrust Division

Notice Pursuant to the National Cooperative Research and Production act of 1993—DVD Copy Control Association (“DVD CCA”)

Notice is hereby given that, on January 15, 2002, pursuant to Section 6(a) of the National Cooperative Research and Production Act of 1993, 15 U.S.C. 4301 et seq. (“the Act”), DVD Copy Control Association (“DVD CCA”) has filed written notifications simultaneously with the Attorney General and the Federal Trade Commission disclosing changes in its membership status. The notifications were filed for the purpose of extending the Act's provisions limiting the recovery of antitrust plaintiffs to actual damages under specified circumstances. Specifically, Alphacast Co. Ltd., Seoul, REPUBLIC OF KOREA; Almedio, Inc., Tokyo, JAPAN; AniMeta Systems, Inc., Taipei, TAIWAN; CMC Magnetics Corporation, Taipei, TAIWAN; Flextronics International Denmark A/S, Pandrup, DENMARK; Guangdong Cosmic Digital Technology, Co., Ltd., Dong Guan City, Guangdong, PEOPLE'S REPUBLIC OF CHINA; Guangzhou Telefield Limited, Guangdong, PEOPLE'S REPUBLIC OF CHINA; Hibino Corporation, Minato-Ku Tokyo, JAPAN; Homenema Disk Incorporation, Taipei Hsien, TAIWAN; iCEBOX LLC, Seattle, WA; Linn Products Limited, Glasgow, Scotland, UNITED KINGDOM; NewSoft Technology Corp., Taipei, TAIWAN; ODME B.V., Eindhoven, THE NETHERLANDS; Optical Disc Stampers, Orange, CA; Tanway Electronic Factory, Guangzhou, PEOPLE'S REPUBLIC OF CHINA; Zhongshan Kenloon Digital Technology Co., Ltd., Zhongshan, Guangdong, PEOPLE'S REPUBLIC OF CHINA; and Zhong Shan Shi NEON Electronic Fty. Ltd., Kowloon, HONG-KONG-CHINA have been added as parties to this venture.

Also, Alcorn McBride Inc., Orlando, FL; Amoisonic Electronics Co., Ltd., Xiamen, PEOPLE'S REPUBLIC OF CHINA; ANAM Electronics Co. Ltd., Ansan-City, Kyungki-Do, REPUBLIC OF KOREA; C-Cube Semiconductor II Inc., Milpitas, CA; Chaintech Computer Co. Ltd., Tapiei Hsien, TAIWAN; Cinet AS, Oslo, NORWAY; C-Media Electronics Inc., Taipei, TAIWAN; CNERC-OD, Taipei, TAIWAN; Coach Master International dba CMI Worldwide, Inc., Seattle, WA; Comjet Information Systems Corp., Taipei, TAIWAN; Compal Electronics, Taipei, TAIWAN; Compaq Computer Corporation, Houston, TX; Computer & Entertainment, Inc., Taipei, TAIWAN; Creative Technology Ltd., Singapore, SINGAPORE; Daesung Eltec Co., Ltd., Seoul, REPUBLIC OF KOREA; Daikin Industries, Tokyo, JAPAN; Diskware Co., Ltd., Koutou-ku, Tokyo, JAPAN; Eastman Kodak Company (Digital & Applied Imaging Division), Rochester, NY; E-Smart Electronics, Ltd., Kowloon, HONG-KONG-CHINA; First International Computer, Inc., Taipei Hsien, TAIWAN; Fly Ring Digital Technology, Ltd., Hong Kong, HONG KONG-CHINA; Freindly CD-Tek Corporation, Taipei, TAIWAN; Fema O.D. S.A., Barcelona, SPAIN; Gigastorage Corporation, Hsinchu, TAIWAN; Goldteck International Inc., Taipei, TAIWAN; Great China Technology, Inc., Taipei Hsien, TAIWAN; Gynco Electronics (HK) Ltd., Tainan Hsien, TAIWAN; Hermosa Cysware Ltd., Taipei, TAIWAN; Highlead Technology, Inc., Taipei Hsien, TAIWAN; Hisaki Sekkei Inc., Fukushima, JAPAN; Hua Du shi Teng Wei Electronic Factory, Kowloon Bay, HONG KONG-CHINA; InterMagic Corporation, Seoul, REPUBLIC OF KOREA; Jeu Hang Technology Co., Ltd., Taipei, TAIWAN; Kenden Corporation, Chiyoda-ku, Tokyo, JAPAN; Konka Group Co., Ltd., Shenzhen Special Zone, PEOPLE'S REPUBLIC OF CHINA; Lection Technology Co., Ltd., Fremong, CA; Luxsonor Semiconductor Inc., Fremont, CA; Makidol Electronics Co., Ltd., Shenzhen, PEOPLE'S REPUBLIC OF CHINA; MbyN Inc., Kyungki-do, REPUBLIC OF KOREA; Media Dimensions, Inc., Austin, TX; Metatec International Corporation, Dublin, OH; Motorola, Inc., Austin, TX; National Semiconductor, Corp. (Mediamatics), Santa Clara, CA; Novac Co., Ltd., Tokyo, JAPAN; Pan-International Industrial Corp., Hsinchu City, TAIWAN; PitsExpert Technology Co., Ltd., Taipei, TAIWAN; Proside Corporation, Chiba, JAPAN; Provac Disc Media Inc., Toronti, Ontario, CANADA; QNX Software Systems Ltd., Kanata, Ontario, CANADA; Sasken Communication Technologies Limited, Bangalore, INDIA; Sensory Science Corporation, Scottsdale, AZ; Shinwa Industries (PRC), Ltd., Guangdong, PEOPLE'S REPUBLIC OF CHINA; Silicon Integrated Systems Corporation, Sunnyvale, CA; Silicon Magic Corporation, Sunnyvale, CA; Soft4D Co., Ltd., Songnam-Si, REPUBLIC OF KOREA; Spruce Technologies, Inc., San Jose, CA; STMicroelectronics, Inc., Carrollton, TX; Stream Machine Company, Milpitas, CA; Sun Microsystems Inc., Palo Alto, CA; Takaya Corporation, Okayama, JAPAN; Toolex International N.V., Eindhoven, THE NETHERLANDS; Trident Microsystems, Inc., Santa Clara, CA; Videolar S/A, Alphaville-Barueri, BRAZIL; Yuan High-Tech Development Co., Ltd., Taipei, TAIWAN; and Zen Research N.V., Curacao, NETHERLANDS ANTILLES have been dropped as parties to this venture.

The following members have changed their names: Ahead Software GmbH to Ahead Software AG, Karlsbad, GERMANY; and Lite-On Technology to JVC Lite-On IT Manufacture and Sales, Limited, Hong Kong, HONG KONG-CHINA.

No other changes have been made in either the membership or planned activity of the group research project. Membership in this group research project remains open, and DVD Copy Control Association (“DVD CCA”) intends to file additional written notification disclosing all changes in membership.

On April 11, 2001, DVD Copy Control Association (“DVD CCA)” filed its original notification pursuant to Section 6(a) of the Act. The Department of Justice published a notice in the Federal Register pursuant to Section 6(b) of the Act on August 3, 2001 (66 FR 40727).

The last notification was filed with the Department on October 12, 2001. A notice was published in the Federal Register pursuant to Section 6(b) of the Act on January 3, 2002 (67 FR 349).

Constance K. Robinson,
Director of Operations, Antitrust Division.

[FR Doc. 02-7027 Filed 3-22-02; 8:45 am]

BILLING CODE 4410-11-M